DEPARTMENT OF THE INTERIOR

National Park Service

[NPS-WASO-CR-NPS0031595; PPWOCRADI0, PCU00RP15.R50000, 212P104215 (211); OMB Control Number 1024-0018]

Agency Information Collection Activities; Nomination of Properties for Listing in the National Register of Historic Places

AGENCY: National Park Service, Interior.

ACTION: Notice of Information collection; request for comment.

SUMMARY: In accordance with the Paperwork Reduction Act of 1995, we, the National Park Service (NPS) are proposing to renew an information collection.

DATES: Interested persons are invited to submit comments on or before August 9, 2021.

ADDRESSES: Send your comments on this information collection request (ICR) by mail to Phadrea Ponds, NPS Information Collection Clearance Officer, National Park Service, 1201 Oakridge Drive Fort Collins, CO 80525; or by email to phadrea_ponds@nps.gov. Please reference Office of Management and Budget (OMB) Control Number 1024-0018 in the subject line of your comments.

FOR FURTHER INFORMATION CONTACT: To request additional information about this ICR, contact, Alexis Abernathy, National Register of Historic Places, by email at alexis_abernathy@nps.gov, or by telephone at 202 354-2236. Individuals who are hearing or speech impaired may call the Federal Relay Service at 1-800-877-8339 for TTY assistance.

SUPPLEMENTARY INFORMATION: In accordance with the Paperwork Reduction Act of 1995 (PRA, 44 U.S.C. 3501 et seq.) and 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The National Register of Historic Places (NRHP) is the official Federal list of districts, sites, buildings, structures, and objects significant in American history, architecture, archeology, engineering, and culture. National Register properties have significance to the history of communities, States, or the Nation. The National Historic Preservation Act of 1966 requires the Secretary of the Interior to maintain and expand the National Register, and to establish criteria and guidelines for including properties on the National Register. National Register properties must be considered in the planning for Federal or federally assisted projects and listing in the National Register is required for eligibility for Federal rehabilitation tax incentives.

The NPS is responsible for administering the National Register. Nominations for listing historic properties come from State Historic Preservation Officers (SHPO), from Federal Preservation Officers (FPO) for properties owned or controlled by the United States Government, and from Tribal Historic Preservation Officers (THPO) for properties on tribal lands. Private individuals and organizations, local governments, and American Indian tribes often initiate this process and prepare the necessary documentation. Regulations at 36 CFR 60 and 63 establish the criteria and guidelines for listing and for determining the eligibility of properties.

Title of Collection: Nomination of Properties for Listing in the National Register of Historic Places.

OMB Control Number: 1024-0018.

Form Number: 10-900, 10-900-a, and 10-900-b.

Type of Review: Extension of a currently approved collection.

Respondents/Affected Public: Individuals, Private Sector, and Government.

Total Estimated Number of Annual Respondents: 2,564.

Total Estimated Number of Annual Responses: 8,443.

Estimated Completion Time per Response: Varies from 6 hours to 250 hours, depending on respondent and/or activity.

Total Estimated Number of Annual Burden Hours: 226,672.

Respondent's Obligation: Required to obtain or retain a benefit.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2021-11988 Filed 6-7-21; 8:45 am]

BILLING CODE 4312-52-P